DEPARTMENT OF ENERGY

Federal Energy Regulatory Commission

[Docket No. ER09-870-001]

Ameren Energy Marketing Company; Notice of Filing

December 3, 2009.

Take notice that on November 24, 2009, Ameren Energy Marketing Company filed an amendment to the compliance filing submitted on June 2, 2009, pursuant to the Federal Energy Regulatory Commission's (Commission) Order issued May 11, 2009, Ameren Energy Marketing Co., 127 FERC ¶ 61,131.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 15, 2009.

Kimberly D. Bose,
Secretary.

[FR Doc. E9-29406 Filed 12-9-09; 8:45 am]

BILLING CODE 6717-01-P